DEPARTMENT OF TRANSPORTATION

Federal Aviation Administration

Consensus Standards, Standard Practice for Design, Alteration, and Certification of Airplane Electrical Wiring Systems

AGENCY: Federal Aviation Administration, DOT.

ACTION: Notice of availability; request for comments.

SUMMARY: This notice announces the availability of consensus standards and the Federal Aviation Administration (FAA) intention to accept the ASTM International's F2639-07 Standard Practice for Design, Alteration, and Certification of Airplane Electrical Wiring Systems (Standard Practice) as an acceptable means of compliance to 14 CFR part 23 sections concerning electrical wiring systems. By this notice, the FAA finds the standards to be acceptable methods and procedures for design, alteration, and certification of electrical wiring systems for normal, utility, acrobatic, and commuter category airplanes.

DATES: Comments must be received on or before October 25, 2010.

ADDRESSES: Comments may be mailed to: Federal Aviation Administration, Small Airplane Directorate, Regulations and Policy, ACE-111, Attention: James Brady, Room 301, 901 Locust, Kansas City, Missouri 64106 or by e-mail to: james.brady@faa.gov. All comments must be marked: Consensus Standards Comments and must specify the standard being addressed by ASTM F2639-07 Standard Practice for Design, Alteration, and Certification of Airplane Electrical Wiring Systems.

FOR FURTHER INFORMATION CONTACT: James Brady, Aerospace Engineer, Regulations and Policy Office (ACE-111), Small Airplane Directorate, Aircraft Certification Service, Federal Aviation Administration, 901 Locust, Room 301, Kansas City, Missouri 64106; telephone (816) 329-4132; e-mail: james.brady@faa.gov.

SUPPLEMENTARY INFORMATION: This notice announces the availability of consensus standards. The FAA expects a suitable consensus standard to be reviewed at least every two years. The two-year review cycle will result in a standard revision or reapproval. A standard is issued under a fixed designation (i.e., F2639-07); the number immediately following the designation indicates the year of original adoption or, in the case of revision, the year of last revision. A number in parentheses indicates the year of last reapproval. A reapproval indicates a two-year review cycle completed with no technical changes. A superscript epsilon (ε) indicates an editorial changes since the last revision or reapproval. A notice of availability (NOA) will only be issued for new or revised standards. Reapproved standards issued with no technical changes or standards issued with editorial changes only (i.e., superscript epsilon (ε)) are considered accepted by the FAA without need for an NOA.

Comments Invited: Interested persons are invited to submit such written data, views, or arguments, as they may desire. Communications should identify the consensus standard number and be submitted to the address specified above. All communications received on or before the closing date for comments will be forwarded to ASTM International Committee F39 for consideration. The standard may be changed in light of the comments received. The FAA will address all comments received during the recurring review of the consensus standard and will participate in the consensus standard revision process.

Background: Under the provisions of the revised Office of Management and Budget (OMB) Circular A-119, “Federal Participation in the Development and Use of Voluntary Consensus Standards and in Conformity Assessment Activities,” dated February 10, 1998, industry and the FAA have been working with ASTM International to develop consensus standards for the design, fabrication, modification, inspection, and maintenance of electrical systems installed on normal and utility category airplanes.

These consensus standards satisfy the FAA's goal for airworthiness certification and a verifiable minimum safety level for normal, utility, acrobatic, and commuter category airplanes. Instead of developing airworthiness standards through the rulemaking process, the FAA participates as a member of Committee F39 in developing these standards. The use of the consensus standard process assures government and industry discussion and agreement on appropriate standards for the required level of safety.

The Consensus Standards in This Notice of Availability

The FAA has reviewed the standards presented in this NOA for compliance with the regulatory requirements of the rule. Any normal, utility, acrobatic, and commuter aircraft issued an airworthiness certificate, which has been designed, manufactured, operated, and maintained, in accordance with this and previously accepted ASTM consensus standards provides the public with the appropriate level of safety established under the regulations. The FAA maintains a listing of all accepted standards on the FAA Web site.

The FAA finds the following new consensus standards acceptable for certification of the specified aircraft. The consensus standard listed below may be used unless the FAA publishes a specific notification otherwise.

ASTM Designation F 2639-07, titled: Standard Practice for Design, Alteration, and Certification of Airplane Electrical Wiring Systems.

Availability

These consensus standards are copyrighted by ASTM International, 100 Barr Harbor Drive, Post Office Box C700, West Conshohocken, PA 19428-2959. Individual reprints of this standard (single or multiple copies, or special compilations and other related technical information) may be obtained by contacting ASTM at this address, or at (610) 832-9585 (phone), (610) 832-9555 (fax), through service@astm.org (e-mail), or through the ASTM Web site at http://www.astm.org. To inquire about standard content and/or membership or about ASTM International Offices abroad, contact Daniel Schultz, Staff Manager for Committee F39 on Normal and Utility Category Airplane Electrical Wiring Systems: (610) 832-9716, dschultz@astm.org.

Issued in Kansas City, Missouri, on September 15, 2010.
William J. Timberlake,
Acting Manager, Small Airplane Directorate, Aircraft Certification Service.

[FR Doc. 2010-23737 Filed 9-22-10; 8:45 am]

BILLING CODE 4910-13-P